DEPARTMENT OF DEFENSE

Department of the Air Force

Record of Decisions for the Environmental Impact Statement United States Air Force F-35A Operational Beddown Air National Guard

AGENCY: Department of the Air Force, DoD.

ACTION: Notice of availability.

SUMMARY: On April 14, 2020, the United States Air Force (USAF) signed the Record of Decisions for the Environmental Impact Statement United States Air Force F-35A Operational Beddown Air National Guard.

ADDRESSES: Mr. Ramon Ortiz, NGB/A4AM, 3501 Fetchet Avenue, Joint Base Andrews MD 20762-5157, (240) 612-7042; usaf.jbanafw.ngb-a4.mbx.a4a-nepa-comments@mail.mil.

SUPPLEMENTARY INFORMATION: The USAF has decided to base the F-35As with associated construction at the 115th Fighter Wing (115 FW) at Dane County Regional Airport in Madison, Wisconsin for the 5th Operational Beddown and at the 187th Fighter Wing (187 FW) at Montgomery Regional Airport, Montgomery, Alabama for the 6th Operational Beddown. Subsequent to construction, delivery of the F-35A aircraft is anticipated to occur between April 2023 and June 2024. These decisions are distinct from one another and will proceed independently.

Air Force decisions documented in the Record of Decisions were based on matters discussed in the Final Environmental Impact Statement, inputs from the public and regulatory agencies, and other relevant factors. The Final Environmental Impact Statement was made available to the public on February 28, 2020 through a Notice of Availability in the Federal Register (Volume 85, Number 40, Page 11986) with a wait period that ended on March 30, 2020.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane S. Paris,
Acting Air Force Federal Register Liaison Officer.

[FR Doc. 2020-08597 Filed 4-22-20; 8:45 am]

BILLING CODE 5001-10-P